DEPARTMENT OF LABOR

Employment and Training Administration

Notice of Statutory Reconsideration of Petitions for Trade Adjustment Assistance

AGENCY: Employment and Training Administration, Labor.

ACTION: Notice.

SUMMARY: On June 29, 2015, President Obama signed into law the Trade Adjustment Assistance Reauthorization Act of 2015 (TAARA 2015), title IV of the Trade Preferences Extension Act of 2015, Public Law 114-27. In accordance with Section 405(a) of TAARA 2015, which amended the Trade Act of 1974, Public Law 93-618 (“the Trade Act”), the Director of the Office of Trade Adjustment Assistance, Employment and Training Administration (OTAA) has taken the following action for petitions that were filed with the Secretary of Labor under section 221(a) of the Trade Act on or after January 1, 2014, and before June 29, 2015, and are identified in the Appendices to this notice.

OTAA has reopened investigations of petitions identified in Appendix A to reconsider all negative determinations on petitions filed on or after January 1, 2014, and before June 29, 2015, and will further investigate those petitions to determine whether the workers are eligible to apply for adjustment assistance under the provisions of section 222 of the Trade Act in effect on June 29, 2015, which were in effect before January 1, 2014. If eligible under these requirements, OTAA will certify the group of workers as eligible to apply for adjustment assistance under title II of the Trade Act, as amended by TAARA 2015.

OTAA also is continuing to investigate those petitions identified in Appendix B for which no determination was issued before June 29, 2015, to determine whether the workers are eligible to apply for adjustment assistance under the provisions of section 222 of the Trade Act in effect on June 29, 2015, which were in effect before January 1, 2014. If eligible under these requirements, OTAA will certify the group of workers as eligible to apply for adjustment assistance under title II of the Trade Act.

Further, worker groups that did not submit petitions between January 1, 2014 and June 29, 2015, but wish to be considered under the group eligibility for workers based on the 2015 Program may file a new petition within 90 days of enactment of the new 2015 law which was signed by President Barak Obama on June 29, 2015. This would include service sector workers as well as worker groups whose jobs are adversely affected by trade from countries that are not parties to Free Trade Agreements (FTAs) with the United States, including China and India. While all petitions filed on and after June 29, 2015, will be investigated under the 2015 Program worker group eligibility criteria, the TAARA 2015 provides that for petitions filed by MIDNIGHT (12:00 AM EASTERN TIME), SUNDAY, SEPTEMBER 27, 2015, that are certified, the certification will cover all members of the worker group who are separated or threatened with separations during the period beginning January 1, 2014, instead of a beginning date of no more than one year before the date of the petition, and generally ending two years after the date of certification. Each of those certifications will describe the worker group and specify the January 1, 2014, beginning date and the ending dates of the certification period.

Appendix A—List of Statutory Reconsideration of Negative Determinations Under Reversion 2014
TA-W | Subject firm (petitioners) | Location | Date of petition filing
85001 | Boehringer Ingelheim Chemicals, Inc. (BICI) (State/One-Stop) | Petersburg, VA | 1/6/2014
85003 | Warner Brothers Home Entertainment, Inc. (Workers) | Burbank, CA | 1/6/2014
85004 | Resorts World Casino (Workers) | Queens, NY | 1/7/2014
85009 | Atos SE (State/One-Stop) | New York, NY | 1/9/2014
85010 | The Smithfield Packing Company, Incorporated (State/One-Stop) | Landover, MD | 1/10/2014
85012 | SANYO Solar (USA) LLC (Company) | Carson, CA | 1/13/2014
85013 | TRW Integrated Chassis Systems, LLC (Workers) | Saginaw, MI | 1/13/2014
85015 | Leviton Manufacturing Company, Inc. (Workers) | West Jefferson, NC | 1/14/2014
85016 | Mid-West Textile (Workers) | El Paso, TX | 1/15/2014
85018 | IBM Corporation (State/One-Stop) | Endicott, NY | 1/16/2014
85019 | Salience Insight, Inc. (Workers) | Berlin, NH | 1/17/2014
85020 | FCI USA LLC (Company) | Etters, PA | 1/17/2014
85022 | Intrepid Potash Inc. (Workers) | Denver, CO | 1/22/2014
85025 | Philips Electronics North America Corporation (Workers) | Bothell, WA | 1/22/2014
85025A | Philips Electronics North America Corporation (Workers) | Andover, MA | 1/22/2014
85025B | Philips Electronics North America Corporation (Company) | Pittsburgh, PA | 1/22/2014
85027 | CHF Industries, Inc. (State/One-Stop) | Loris, SC | 1/22/2014
85029 | Oldcastle Building Envelope (Company) | Everett, WA | 1/23/2014
85031 | Iron Mountain Information Management, LLC (State/One-Stop) | Boston, MA | 1/23/2014
85035 | Hewlett Packard Company (State/One-Stop) | Ft. Collins, CO | 1/27/2014
85035A | Hewlett Packard Company (State/One-Stop) | Ft. Collins, CO | 1/27/2014
85035B | Hewlett Packard Company (State/One-Stop) | Ft. Collins, CO | 1/27/2014
85035C | Hewlett Packard Company (State/One-Stop) | Boise, ID | 1/27/2014
85036 | Kelsey-Hayes Company (Workers) | Sterling Heights, MI | 1/28/2014
85037 | Honeywell (Workers) | Irving, TX | 1/28/2014
85038 | Tate and Kirlin Associates, Inc. (Workers) | Philadelphia, PA | 1/29/2014
85039 | Freescale Semiconductor, Inc. (State/One-Stop) | Austin, TX | 1/29/2014
85040 | S&S Transportation, Inc. (Company) | Lincoln, ME | 1/29/2014
85045 | I2S, LLC (Workers) | Yalesville, CT | 1/31/2014
85046 | AIG Claims Inc. (Workers) | Houston, TX | 1/31/2014
85048 | British Telecommunications (State/One-Stop) | Princeton, NJ | 2/3/2014
85050 | Carthage Area Hospital (Company) | Carthage, NY | 2/3/2014
85051 | VEC Technology, LLC (Workers) | Greenville, PA | 2/5/2014
85052 | Symantec Corporation (State/One-Stop) | Beaverton, OR | 2/5/2014
85055 | Ace Global (State/One-Stop) | Phoenix, AZ | 2/6/2014
85057 | Hyosung USA, Inc. (State/One-Stop) | Utica, NY | 2/7/2014
85062 | Computer Sciences Corporation (Workers) | El Segundo, CA | 2/11/2014
85064 | Southside Manufacturing (State/One-Stop) | Blairs, VA | 2/11/2014
85066 | SunEdison, Inc. (Workers) | St. Peters, MO | 2/12/2014
85067 | FLSmidth USA, Inc. (Company) | Meridian, ID | 2/12/2014
85068 | GE Hitachi Nuclear Energy (Workers) | Canonsburg, PA | 2/12/2014
85069 | Allstate Insurance (State/One-Stop) | Roanoke, VA | 2/12/2014
85073 | Symak Sales Co. Inc. (Company) | Plattsburgh, NY | 2/18/2014
85075 | Duro Textiles, LLC (State/One-Stop) | Fall River, MA | 2/19/2014
85076 | Support.com, Inc. (Union) | Redwood City, CA | 2/19/2014
85077 | Caterpillar, Inc. (State/One-Stop) | Pulaski, VA | 2/19/2014
85078 | Sun-Times Media Production, LLC (Workers) | Chicago, IL | 2/20/2014
85081 | Larsen Manufacturing Southwest (State/One-Stop) | El Paso, TX | 2/20/2014
85083 | TransTrade Operators, Inc. (Union) | DFW Airport, TX | 2/20/2014
85086A | Bayer CropScience LP (State/One-Stop) | Institute, WV | 2/21/2014
85089 | Bank of America (State/One-Stop) | San Jose, CA | 2/24/2014
85090 | Pixel Playground, Inc. (State/One-Stop) | Woodland Hills, CA | 2/24/2014
85093 | Specialty Foods Group, Inc. (Workers) | Chicago, IL | 2/26/2014
85097 | SuperMedia Services LLC (State/One-Stop) | Middleton, MA | 2/26/2014
85099 | Harrington Tool Company (State/One-Stop) | Ludington, MI | 2/26/2014
85101 | HelioVolt Corporation (Company) | Austin, TX | 2/26/2014
85102 | Northport USA LLC (State/One-Stop) | Wilkes Barre, PA | 2/28/2014
85103 | Guru Denim, Inc. (Union) | Vernon, CA | 2/28/2014
85107 | Honeywell Federal Manufacturing & Technologies LLC (Union) | Kansas City, MO | 3/4/2014
85109 | Sharp Manufacturing Co. of America (SMCA) (Workers) | Memphis, TN | 3/4/2014
85111 | Windstream Corporation (Workers) | Dalton, GA | 3/4/2014
85112 | UL, LLC (Union) | Melville, NY | 3/4/2014
85113 | Rocktenn Company (Workers) | Grand Prairie, TX | 3/4/2014
85114 | Predator Systems, Inc. (State/One-Stop) | Boca Raton, FL | 3/4/2014
85115 | Hoax Films, LLC (State/One-Stop) | Los Angeles, CA | 3/5/2014
85116 | Reebok International LTD. (State/One-Stop) | Canton, MA | 3/5/2014
85119 | Hewlett Packard Company (Union) | Palo Alto, CA | 3/5/2014
85121 | Roseburg Forest Products Company (State/One-Stop) | Riddle, OR | 3/6/2014
85122 | Bimbo Bakeries USA, Inc. (Company) | Wichita, KS | 3/6/2014
85123 | Elsevier, Inc. (Company) | San Diego, CA | 3/6/2014
85125 | Source Medical (Workers) | Rome, GA | 3/7/2014
85127 | Mid Atlantic Manufacturing & Hydraulics, Inc. (State/One-Stop) | Rural Retreat, VA | 3/10/2014
85129 | Windstream Corporation (State/One-Stop) | Harrison, AR | 3/10/2014
85131 | Mitsubishi Nuclear Energy Systems, Inc. (Company) | Irving, TX | 3/11/2014
85137 | LexisNexis (Company) | Miamisburg, OH | 3/12/2014
85137A | LexisNexis (Company) | Albany, NY | 3/12/2014
85137B | LexisNexis (Company) | Charlotteville, VA | 3/12/2014
85137C | LexisNexis (Company) | Colorado Spings, CO | 3/12/2014
85137D | LexisNexis (Company) | Dayton, OH | 3/12/2014
85137E | LexisNexis (Company) | Springfield, OH | 3/12/2014
85137F | LexisNexis (Company) | New Providence, NJ | 3/12/2014
85137G | LexisNexis (Company) | New York, NY | 3/12/2014
85137H | LexisNexis (Company) | San Francisco, CA | 3/12/2014
85137I | LexisNexis (Workers) | Orem, UT | 3/12/2014
85138 | ARRIS Group, Inc. (State/One-Stop) | State College, PA | 3/12/2014
85139 | Syncreon US Inc. (State/One-Stop) | Sterling Heights, MI | 3/12/2014
85144 | IP & Science (Patent Payments) (Workers) | Bingham Farms, MI | 3/13/2014
85145 | AXA Equitable Life Insurance Company (State/One-Stop) | Charlotte, NC | 3/13/2014
85148 | Laserwords U.S. Inc. (Workers) | Lewiston, ME | 3/14/2014
85150 | Clear (State/One-Stop) | Palatine, IL | 3/18/2014
85153 | Staples, Inc. (State/One-Stop) | Framingham, MA | 3/18/2014
85154 | Xerox Imager Delivery Center (Workers) | El Segundo, CA | 3/18/2014
85155 | DMI Edon, LLC (Workers) | Edon, OH | 3/18/2014
85158 | Cox Communications California LLC (Workers) | Rancho Santa Margarita, CA | 3/19/2014
85159 | Seagate Technologies PLC (Workers) | Shakopee, MN | 3/19/2014
85159A | Seagate Technologies PLC (Workers) | Bloomington, MN | 3/19/2014
85163 | Creative Apparel Associates LLC (State/One-Stop) | Fort Kent, ME | 3/20/2014
85165 | Esterline Memtron Input Components (Workers) | Frankenmuth, MI | 3/21/2014
85166 | Hartford Fire Insurance Company (Workers) | Hartford, CT | 3/21/2014
85167 | Dell Marketing L.P. and Dell USA LP (Workers) | Plano, TX | 3/21/2014
85173 | Xerox State and Local Solutions, Inc. (Union) | Waite Park, MN | 3/25/2014
85174 | AT&T Corp. (Workers) | Pittsburgh, PA | 3/25/2014
85175 | Virtual Training Company, Inc. (Workers) | Stephens City, VA | 3/25/2014
85180 | Hewlett Packard (Union) | Boise, ID | 3/27/2014
85181 | Innovative Hearth Products, LLC (State/One-Stop) | Union City, TN | 3/27/2014
85182 | M*Modal Services, Ltd. (Workers) | Franklin, TN | 3/28/2014
85183 | Hyundai America Shipping Agency, Inc. (State/One-Stop) | Itasca, IL | 3/28/2014
85184 | Oracle America, Inc. (State/One-Stop) | Broomfield, CO | 3/28/2014
85185 | Broadridge Financial Solutions Inc. (Company) | Jersey City, NJ | 3/31/2014
85190 | DNP Electronics America, LLC (Workers) | Chula Vista, CA | 4/1/2014
85194 | Med-Fit Systems, Inc. (Workers) | Independence, VA | 4/2/2014
85195 | Stream Global Services, Inc. (State/One-Stop) | Sergeant Bluff, IA | 4/2/2014
85197 | Bimbo Bakeries, USA, Inc. (Workers) | Bay Shore, NY | 4/2/2014
85203 | Citigroup Technology, Inc. (“Cti”) (State/One-Stop) | Tampa, FL | 4/3/2014
85205 | Digital Domain 3.0, Inc. (Company) | Los Angeles, CA | 4/3/2014
85206 | OVUS Technologies LLC (Union) | Dallas, TX | 4/3/2014
85208 | Lockheed Martin Ship and Air Services (Workers) | Akron, OH | 4/4/2014
85217 | JP Morgan Chase and Company (State/One-Stop) | Florence, SC | 4/10/2014
85220 | SunTrust Mortgage, Inc. (Union) | Atlanta, GA | 4/11/2014
85222 | Air System Components, Inc. (State/One-Stop) | Ponca City, OK | 4/11/2014
85228 | Nilfisk-Advance, Inc. (Union) | Plymouth, MN | 4/15/2014
85229 | Trane U.S., Inc. (Workers) | La Crosse, WI | 4/15/2014
85231 | Convergys (State/One-Stop) | Denver, CO | 4/15/2014
85232 | Dex Media, Inc. (Workers) | Erie, PA | 4/15/2014
85237 | Hyundia Regional Customer Service Center (State/One-Stop) | Charlotte, NC | 4/15/2014
85239 | Robert Bosch Tool Corporation, Inc. (Union) | Mount Prospect, IL | 4/16/2014
85241 | Institute Career Development (Workers) | Merrillville, IN | 4/17/2014
85245 | Detroit Tool & Engineering, Inc. (Workers) | Lebanon, MO | 4/18/2014
85247 | MoneyGram Payment Systems. Inc. (Workers) | Brooklyn Center, MN | 4/21/2014
85249 | Mitel, Inc. (Workers) | Mesa, AZ | 4/21/2014
85250 | Dell Marketing L.P. and Dell USA LP (Workers) | Round Rock, TX | 4/21/2014
85251 | Hewlett Packard Company (Workers) | Boise, ID | 4/21/2014
85251A | Hewlett Packard Company (Workers) | Boise, ID | 4/21/2014
85251B | Hewlett Packard Company (Company) | Boise, ID | 4/21/2014
85254 | Sony Electronics, Inc. (Company) | Carson, CA | 4/22/2014
85254A | Sony Electronics, Inc. (Company) | Los Angeles, CA | 4/22/2014
85254B | Sony Electronics, Inc. (Company) | Los Angeles, CA | 4/22/2014
85254C | Sony Electronics, Inc. (Company) | San Diego, CA | 4/22/2014
85254D | Sony Electronics, Inc. (Company) | San Jose, CA | 4/22/2014
85254E | Sony Electronics, Inc. (Company) | Fort Myers, FL | 4/22/2014
85254F | Sony Electronics, Inc. (Company) | Honolulu, HI | 4/22/2014
85254G | Sony Electronics, Inc. (Company) | Itasca, IL | 4/22/2014
85254H | Sony Electronics, Inc. (Company) | Bloomington, MN | 4/22/2014
85254I | Sony Electronics, Inc. (Company) | Park Ridge, NJ | 4/22/2014
85254J | Sony Electronics, Inc. (Company) | Laredo, TX | 4/22/2014
85254K | Sony Electronics, Inc. (Company) | Laredo, TX | 4/22/2014
85254L | Sony Electronics, Inc. (Company) | Redmond, WA | 4/22/2014
85254M | Sony Electronics, Inc. (Company) | Middleton, WI | 4/22/2014
85261C | Hibu Inc. (State/One-Stop) | Spokane Valley, WA | 4/24/2014
85263 | SC&H Group (State/One-Stop) | Sparks, MD | 4/24/2014
85264 | Cloud Cap Technology, Inc. (State/One-Stop) | Hood River, OR | 4/25/2014
85267 | Support.com, Inc. (Workers) | Redwood City, CA | 4/28/2014
85269 | International Flight Training Academy, Inc. (State/One-Stop) | Bakersfield, CA | 4/29/2014
85273 | Destination Rewards, Inc. (State/One-Stop) | Boca Raton, FL | 4/29/2014
85274 | Eternal Fortune Fashion LLC (Workers) | New York, NY | 4/30/2014
85277 | Aegis Media Americas (Union) | Boston, MA | 5/1/2014
85278 | Swan Dyeing and Printing Corporation (State/One-Stop) | Fall River, MA | 5/1/2014
85280 | ClearEdge Power LLC (State/One-Stop) | South Windsor, CT | 5/2/2014
85285 | Wave Accounting, Inc. (Delaware) (State/One-Stop) | Wilmington, DE | 5/5/2014
85285A | Wave Accounting, Inc. (Delaware) (State/One-Stop) | Webster, NY | 5/5/2014
85287 | Quad/Graphics Marketing, LLC (State/One-Stop) | Marengo, IA | 5/6/2014
85288 | Automated Solutions, Inc. (State/One-Stop) | Knoxville, AR | 5/7/2014
85290 | Rigaku Innovative Technologies, Inc. (State/One-Stop) | Auburn Hills, MI | 5/7/2014
85291 | ProLogix Distribution Services, East (State/One-Stop) | Spring Arbor, MI | 5/7/2014
85292 | Dix Digital Prepress, Inc. (Workers) | Cicero, NY | 5/7/2014
85294 | Pitney Bowes Inc. (State/One-Stop) | Spokane, WA | 5/7/2014
85295 | Bimbo Bakeries USA, Inc. (State/One-Stop) | Sioux City, IA | 5/8/2014
85296 | ArcSoft, Inc. (Workers) | Fremont, CA | 5/8/2014
85300 | Sensormatic Electronics LLC (Workers) | Boca Raton, FL | 5/9/2014
85301 | Citigroup Technology, Inc. (“CTI”) (Company) | Warren, NJ | 5/13/2014
85317 | Child Care Services (Workers) | Courtland, MS | 5/20/2014
85321 | JP Morgan Chase and Company (Company) | Florence, SC | 5/20/2014
85323 | Aviat Networks (State/One-Stop) | Santa Clara, CA | 5/21/2014
85325 | Tata Technologies, Inc. (Workers) | Auburn Hills, MI | 5/21/2014
85331 | Music Group Services US (Workers) | Bothell, WA | 5/22/2014
85333 | IQE North Carolina (Workers) | Greensboro, NC | 5/23/2014
85334 | Cubix Software Ltd., Inc. (Workers) | Longview, TX | 5/27/2014
85337 | Dell Marketing L.P. And Dell USA LP (Workers) | Plano, TX | 5/28/2014
85339 | Freescale Semiconductor, Inc. (Company) | Austin, TX | 5/29/2014
85342 | North Cascade Mechanical, LLC (Workers) | Blaine, WA | 5/30/2014
85343 | Risk Specialists Insurance Companies Insurance Agency, Inc. (Workers) | Houston, TX | 5/30/2014
85348 | Center Partners, Inc. (Workers) | Idaho Falls, ID | 5/30/2014
85350 | Computer Sciences Corporation (CSC) (State/One-Stop) | Blythewood, SC | 6/2/2014
85351 | Gold Inc. D/B/A Goldbug, Inc. (State/One-Stop) | Aurora, CO | 6/2/2014
85352 | Pioneer Hi-Bred, International—Mt. Pleasant (State/One-Stop) | Mount Pleasant, IA | 6/2/2014
85355 | Chevron Mining, Inc. (Company) | Questa, NM | 6/4/2014
85362 | Catawissa Wood and Components, Inc. (Union) | Elysburg, PA | 6/6/2014
85371 | Contacts Metals and Welding, Inc. (State/One-Stop) | Indianapolis, IN | 6/12/2014
85373 | General Electric International, Inc. (Workers) | Plainville, CT | 6/12/2014
85375 | Caterpillar, Inc. (State/One-Stop) | Pearisburg, VA | 6/13/2014
85377 | Chemtrade Chemicals US LLC (Workers) | Parsippany, NJ | 6/16/2014
85381 | Gamestop Texas, Ltd. (Workers) | Grapevine, TX | 6/19/2014
85382 | Baldor Electric Company (Workers) | Fort Smith, AR | 6/19/2014
85383 | Knowledge Universe—U.S. (State/One-Stop) | Portland, OR | 6/19/2014
85384 | Verizon California, Inc. (Company) | Long Beach, CA | 6/18/2014
85386 | Covidien LP (Union) | Mansfield, MA | 6/19/2014
85387 | John Deere Harvester Works (Workers) | East Moline, IL | 6/23/2014
85388 | JPMorgan Chase & Co. (Company) | Florence, SC | 6/23/2014
85393 | Chemtura Corporation (Workers) | West Lafayette, IN | 6/25/2014
85394 | Merck Sharp & Dohme Corporation (Workers) | Rahway, NJ | 6/25/2014
85395 | StreetLinks Lender Solutions (State/One-Stop) | Indianapolis, IN | 6/25/2014
85396 | Fabricast Valve, LLC (Workers) | Longview, WA | 6/26/2014
85397 | Accenture, LLP (Workers) | Charlotte, NC | 6/26/2014
85398 | Dell USA LP (Workers) | Round Rock, TX | 6/26/2014
85399 | Sandler & Travis Trade Advisory Services, Inc. (State/One-Stop) | Farmington Hills, MI | 6/27/2014
85403 | BAE Systems Aerospace & Defense Group, Inc. (State/One-Stop) | McKee, KY | 6/30/2014
85403A | BAE Systems Aerospace & Defense Group, Inc. (Workers) | Annville, KY | 6/30/2014
85413 | Shine Electronics Company, Inc. (Company) | Long Island City, NY | 7/7/2014
85419 | Cinram Group Inc. (Company) | Olyphant, PA | 7/14/2014
85420 | Swank Inc. (State/One-Stop) | Taunton, MA | 7/14/2014
85425 | Intrepid Potash Inc. (State/One-Stop) | Carlsbad, NM | 7/16/2014
85427 | MoneyGram Payment Systems, Inc. (Workers) | Lakewood, CO | 7/18/2014
85433 | Wolff Fording and Company (State/One-Stop) | Richmond, VA | 7/18/2014
85435 | American IT Solutions (State/One-Stop) | Danbury, CT | 7/22/2014
85436 | PST, Inc. D/B/A Business Performance Services (Workers) | Cypress, CA | 7/22/2014
85439 | Qualfon Data Services Group, LLC (State/One-Stop) | Deposit, NY | 7/23/2014
85441 | Keystone Calumet, Inc. (Workers) | Chicago Heights, IL | 7/24/2014
85442 | Harman International Industries, Inc. (Workers) | Novi, MI | 7/24/2014
85446 | JPMorgan Chase & Co. (State/One-Stop) | Florence, SC | 7/28/2014
85448 | UnitedHealth One (State/One-Stop) | Lawrenceville, IL | 7/29/2014
85448A | UnitedHealth One (State/One-Stop) | Indianapolis, IN | 7/29/2014
85448B | UnitedHealth One (Workers) | Green Bay, WI | 7/29/2014
85451 | Fifth Third Mortgage Company (State/One-Stop) | Cincinnati, OH | 7/29/2014
85456 | Microsoft Corporation (State/One-Stop) | Redmond, WA | 7/31/2014
85462 | Microsoft Corporation (State/One-Stop) | Santa Monica, CA | 8/5/2014
85463 | Moser Baer Technologies, Inc. (Union) | Fairpoint, NY | 8/5/2014
85464 | Exelis Incorporated (Workers) | Roanoke, VA | 8/5/2014
85466 | GrafTech International Holdings, Inc. (Workers) | Emporium, PA | 8/6/2014
85467 | Electrolux Home Care Products, Inc. (Workers) | El Paso, TX | 8/6/2014
85468 | Comcast Cable (Workers) | Alpharetta, GA | 8/7/2014
85470 | Elsevier, Inc. (Workers) | Maryland Heights, MO | 8/8/2014
85477 | AT&T Mobility Services LLC (State/One-Stop) | Atwater, CA | 8/12/2014
85485 | Stratus Technologies, Inc. (Workers) | Maynard, MA | 8/15/2014
85488 | Sig Sauer, Inc. (State/One-Stop) | Newington, NH | 8/18/2014
85491 | Citibank N.A. (Company) | Jersey City, NJ | 8/18/2014
85494 | Fluor-B&W Portsmouth LLC (Workers) | Piketon, OH | 8/20/2014
85495 | Sumitomo Electric Device Innovations USA, Inc. (State/One-Stop) | Albuquerque, NM | 8/21/2014
85496 | Remington Arms, Inc. (Union) | Ilion, NY | 8/21/2014
85497 | Invista S.a.r.l. (Workers) | Waynesboro, VA | 8/22/2014
85500 | J.R. Simplot Company (Workers) | Moses Lake, WA | 8/25/2014
85500A | J.R. Simplot Company (Union) | Othello, WA | 8/25/2014
85505 | Red Shield Acquisition (Union) | Old Town, ME | 8/26/2014
85508 | Electrodynamics, Inc. (State/One-Stop) | Rolling Meadows, IL | 8/27/2014
85513 | Heartland Footwear, Inc. (Workers) | Pocahontas, AR | 9/2/2014
85514 | Avon Products, Inc., (State/One-Stop) | Springdale, OH | 9/2/2014
85516 | Bimbo Bakeries USA, Inc. (Company) | Fresno, CA | 9/4/2014
85517 | M&D Industries, Inc. (State/One-Stop) | Clarendon, PA | 9/4/2014
85525 | Amgen Inc. (Company) | Longmont, CO | 9/10/2014
85527 | Syncreon Technology (America), Inc. (Workers) | Allentown, PA | 9/11/2014
85530 | Shure Incorporated (State/One-Stop) | El Paso, TX | 9/11/2014
85534 | Pendleton Grain Growers, Inc. (State/One-Stop) | Hermiston, OR | 9/12/2014
85534A | Pendleton Grain Growers, Inc. (State/One-Stop) | Hermiston, OR | 9/12/2014
85534B | Pendleton Grain Growers, Inc. (State/One-Stop) | Hermiston, OR | 9/12/2014
85534C | Pendleton Grain Growers, Inc. (State/One-Stop) | Pendleton, OR | 9/12/2014
85534D | Pendleton Grain Growers, Inc. (State/One-Stop) | Pendleton, OR | 9/12/2014
85534E | Pendleton Grain Growers, Inc. (State/One-Stop) | Pendleton, OR | 9/12/2014
85534F | Pendleton Grain Growers, Inc. (State/One-Stop) | Pendleton, OR | 9/12/2014
85534G | Pendleton Grain Growers, Inc. (State/One-Stop) | Freewater, OR | 9/12/2014
85534H | Pendleton Grain Growers, Inc. (State/One-Stop) | Island City, OR | 9/12/2014
85538 | Centurylink, Inc. (Workers) | Seattle, WA | 9/16/2014
85539 | American Express Travel Related Services Company, Inc. (Workers) | Salt Lake City, UT | 9/17/2014
85540 | Quantum Spatial, Inc. (Workers) | Sheboygan, WI | 9/17/2014
85543 | Momentive Performance Materials Quartz, Inc. (Workers) | Hebron, OH | 9/19/2014
85545 | Rural Metro Ambulance (State/One-Stop) | Indianapolis, IN | 9/22/2014
85549 | Humana (State/One-Stop) | Louisville, KY | 9/23/2014
85551 | Harte Hanks Market Intelligence, Inc. (State/One-Stop) | San Diego, CA | 9/25/2014
85555 | Artic Timber, Inc. (State/One-Stop) | Cosmopolis, WA | 9/25/2014
85556 | Honeywell (State/One-Stop) | Tempe, AZ | 9/26/2014
85559 | Weatherford International LLC (Workers) | Houston, TX | 9/26/2014
85562 | Unimin Corporation (Workers) | Gleason, TN | 9/29/2014
85571 | VLOC, Inc. (Union) | Trinity, FL | 10/2/2014
85573 | MotivePower, Inc. (Workers) | Boise, ID | 10/2/2014
85575 | AMFIRE Mining Company, LLC (Union) | Portage, PA | 10/3/2014
85577 | British Airways, PLC (Workers) | Jamaica, NY | 10/7/2014
85579 | Keystone Weaving Mills, Inc. (Workers) | Lebanon, PA | 10/8/2014
85581 | AT&T Mobility Services LLC (State/One-Stop) | Morristown, NJ | 10/9/2014
85583 | Metalfab Tool & Machine, Inc. (Workers) | Mio, MI | 10/9/2014
85584 | Wacom Technology Corporation (State/One-Stop) | Vancouver, WA | 10/9/2014
85585 | AGCO (Union) | Beloit, KS | 10/10/2014
85586 | Delta Dental of Pennsylvania (Workers) | Mechanicsburg, PA | 10/10/2014
85589 | Original Chili Bowl (Company) | Tulsa, OK | 10/10/2014
85594 | SuperValu, Inc. (State/One-Stop) | Boise, ID | 10/14/2014
85595 | Quad/Graphics (Company) | Woodstock, IL | 10/15/2014
85601 | Pitney Bowes Inc. (State/One-Stop) | Troy, NY | 10/16/2014
85603 | Eighth Floor Promotions (State/One-Stop) | Celina, OH | 10/17/2014
85605 | GE Power Electronics, Inc. (Workers) | Galion, OH | 10/20/2014
85609 | RNYK LLC D.B.A. J & R Music World (State/One-Stop) | New York, NY | 10/21/2014
85612 | CA Technologies (State/One-Stop) | Plano, TX | 10/22/2014
85613 | Midair USA Inc. (State/One-Stop) | Rome, NY | 10/23/2014
85615 | Trane U.S. Inc. (State/One-Stop) | Tyler, TX | 10/27/2014
85617 | Day & Zimmermann, Inc. (Workers) | Parsons, KS | 10/28/2014
85619 | Oracle America, Inc. (Union) | Morrisville, NC | 10/29/2014
85630 | General Dynamics OTS (Pennsylvania), Inc. (State/One-Stop) | Scranton, PA | 11/6/2014
85632 | Intuit, Inc. (State/One-Stop) | Mountain View, CA | 11/7/2014
85633 | Microsoft (State/One-Stop) | Calabasas, CA | 11/7/2014
85637 | Cincinnati Bell Telephone Company LLC (Company) | Norwood, OH | 11/10/2014
85640 | Covidien LP (Workers) | Mansfield, MA | 11/12/2014
85642 | MetLife Group, Inc. (State/One-Stop) | Clarks Summit, PA | 11/13/2014
85645 | Cardinal Health (State/One-Stop) | McDonough, GA | 11/14/2014
85649 | Oshkosh Defense, LLC (Workers) | Oshkosh, WI | 11/17/2014
85656 | Sprint/United Management Company (State/One-Stop) | Overland Park, KS | 11/19/2014
85659 | IDEV Technologies, Inc. (State/One-Stop) | Webster, TX | 11/20/2014
85661 | AMFIRE Mining Co. LLC (State/One-Stop) | Portage, PA | 11/20/2014
85661A | Maxxim Shared Services, LLC (State/One-Stop) | Latrobe, PA | 11/20/2014
85661B | AMFIRE Mining Company, LLC (State/One-Stop) | Clymer, PA | 11/20/2014
85661C | AMFIRE Mining Company, LLC (State/One-Stop) | Frenchville, PA | 11/20/2014
85661D | AMFIRE Mining Company, LLC (State/One-Stop) | Rockwood, PA | 11/20/2014
85661E | AMFIRE Mining Company, LLC (State/One-Stop) | Indiana, PA | 11/20/2014
85661F | AMFIRE Mining Company, LLC (State/One-Stop) | Hamilton, PA | 11/20/2014
85661G | AMFIRE Mining Company, LLC (State/One-Stop) | Mineral Point, PA | 11/20/2014
85661H | AMFIRE Mining Company, LLC (State/One-Stop) | Penn Run, PA | 11/20/2014
85661I | AMFIRE Mining Company, LLC (State/One-Stop) | Indiana, PA | 11/20/2014
85661J | AMFIRE Mining Company, LLC (State/One-Stop) | Homer City, PA | 11/20/2014
85661K | AMFIRE Mining Company, LLC (State/One-Stop) | Mineral Point, PA | 11/20/2014
85661L | AMFIRE Mining Company, LLC (State/One-Stop) | Philipsburg, PA | 11/20/2014
85661M | AMFIRE Mining Company, LLC (State/One-Stop) | Clearfield, PA | 11/20/2014
85661N | AMFIRE Mining Company, LLC (Union) | Homer City, PA | 11/20/2014
85670 | Verizon Communications (Union) | Erie, PA | 11/25/2014
85672 | Twin Rivers Paper LLC (State/One-Stop) | Madawaska, ME | 11/26/2014
85674 | Levi Strauss & Co. (Company) | Eugene, OR | 11/26/2014
85676 | Syncreon US (Company) | Trotwood, OH | 11/28/2014
85677 | Hitachi Zosen Catalyst USA, LLC (State/One-Stop) | Scottsboro, AL | 11/28/2014
85693 | Green Creek Wood Products LLC (State/One-Stop) | Port Angeles, WA | 12/5/2014
85694 | Tyco Fire Protection Products (Workers) | Westminster, MA | 12/5/2014
85700 | Sport Mart Inc. (Workers) | Charleston, WV | 12/8/2014
85702 | JP Morgan Chase & Company (Workers) | Lowell, MA | 12/8/2014
85705 | KeyBank, NA (State/One-Stop) | Brooklyn, OH | 12/9/2014
85706 | Quality Auto Electric, Inc. (Workers) | Knoxville, TN | 12/10/2014
85719 | Mastercraft Specialties Inc. (State/One-Stop) | Red Lion, PA | 12/15/2014
85720 | Xerox Commercial Solutions, LLC (State/One-Stop) | Kennett, MO | 12/15/2014
85721 | Workers of IBM Corporation (State/One-Stop) | San Antonio, TX | 12/15/2014
85731 | Sun Life Financial (U.S.) Services Company, Inc. (Company) | Wellesley Hills, MA | 12/17/2014
85734 | Magy Staffing (Workers) | Holland, OH | 12/18/2014
85741 | Maersk Agency USA Inc. (Company) | Charlotte, NC | 12/22/2014
85744 | Kroll Factual Data, Inc. (Workers) | Loveland, CO | 12/22/2014
85747 | JP Morgan Chase and Company (Workers) | Akron, OH | 12/29/2014
85749 | St. Thomas Medical Group (Workers) | Nashville, TN | 12/31/2014
85752 | Lear Corporation (Workers) | Southfield, MI | 1/7/2015
85758 | Oxane Materials, Inc. (State/One-Stop) | Van Buren, AR | 1/12/2015
85762 | Advanced Ion Beam Technology, Inc. (Workers) | Danvers, MA | 1/14/2015
85765 | Vencore Services and Solutions, Inc. (Union) | San Diego, CA | 1/16/2015
85766 | Dallas Airmotive, Inc. (Union) | Neosho, MO | 1/16/2015
85769 | Rural Metro Ambulance (Workers) | Salem, OR | 1/20/2015
85771 | Eastman Kodak Company (State/One-Stop) | Rochester, NY | 1/20/2015
85772 | Bank of America (State/One-Stop) | Dallas, TX | 1/21/2015
85775 | Laredo Petroleum, Inc. (Workers) | Farmers Branch, TX | 1/21/2015
85777 | Scottsdale Healthcare Hospitals (State/One-Stop) | Scottsdale, AZ | 1/21/2015
85781 | Asahi America, Inc. (State/One-Stop) | Lawrence, MA | 1/23/2015
85782 | Flight Line Products LLC (State/One-Stop) | Valencia, CA | 1/23/2015
85788 | Engineered Polymer Solutions (Workers) | Garland, TX | 1/23/2015
85790 | Corsa Coal Corporation (Workers) | Friedens, PA | 1/27/2015
85791 | MWI Veterinary Supply Co. (State/One-Stop) | Warsaw, NC | 1/27/2015
85793 | Pacific Data Images, Inc. (PDI) (Company) | Redwood City, CA | 1/28/2015
85797 | Revett Mining Company, Inc. (State/One-Stop) | Troy, MT | 1/28/2015
85799 | Comprehensive Logistics, Inc. (Company) | Lansing, MI | 1/29/2015
85804 | Convergys Corporation (State/One-Stop) | Jacksonville, TX | 2/3/2015
85806 | Premier Tech Chronos (Company) | Montgomery, AL | 2/3/2015
85808 | Jones Apparel US LLC (State/One-Stop) | Lawrenceburg, TN | 2/4/2015
85811 | Chancellors, Master, & Scholars (State/One-Stop) | West Nyack, NY | 2/4/2015
85812 | Deluxe 3D LLC (Workers) | Burbank, CA | 2/4/2015
85813 | Tyson Foods, Inc. (State/One-Stop) | Santa Teresa, NM | 2/4/2015
85814 | Grape Solar, Inc. (State/One-Stop) | Eugene, OR | 2/5/2015
85815 | Peak Oilfield Services Company (Company) | Nikiski, AK | 2/5/2015
85824 | HFW Ventures, LLC (State/One-Stop) | Kenai, AK | 2/11/2015
85825 | OxyHeal Health Group, Inc. (State/One-Stop) | Camp Lejeune, NC | 2/11/2015
85829 | Sony Puerto Rico, Inc. (Workers) | Guaynabo, PR | 2/11/2015
85831 | Carefusion (State/One-Stop) | Albuquerque, NM | 2/18/2015
85832 | BPRex Healthcare Brookville, Inc. (State/One-Stop) | Brookville, PA | 2/18/2015
85833 | Milestone Systems, Inc. (Company) | Burnsville, MN | 2/18/2015
85834 | Mondelez International (Company) | Wilkes Barre, PA | 2/18/2015
85835 | S4Carlisle Publishing Services (Workers) | Dubuque, IA | 2/18/2015
85838 | Bethany Christian Services (State/One-Stop) | Holland, MI | 2/18/2015
85840 | Nestle USA (Workers) | Glendale, CA | 2/19/2015
85849 | Zemco Industries, Inc. (State/One-Stop) | Buffalo, NY | 2/24/2015
85858 | Transcend Services, Inc. (State/One-Stop) | Atlanta, GA | 2/27/2015
85865 | Harland Clarke Corp. (Company) | San Antonio, TX | 3/6/2015
85869 | ProTeam, Inc. (Workers) | Boise, ID | 3/10/2015
85870 | Maidenform (Workers) | Fayetteville, NC | 3/11/2015
85871 | Multiband Corporation (State/One-Stop) | Richmond, KY | 3/11/2015
85878 | MicroTelecom Systems LLC (Workers) | Uniondale, NY | 3/13/2015
85880 | Stewart Title Guaranty Company (State/One-Stop) | Houston, TX | 3/16/2015
85881 | Nabors Completion & Services Company (State/One-Stop) | Gaylord, MI | 3/16/2015
85882 | The Nielsen Company (US), LLC (Workers) | Shelton, CT | 3/16/2015
85885 | HCL America Inc. (State/One-Stop) | Cary, NC | 3/19/2015
85887 | Unit Drilling Company (Union) | Oklahoma City, OK | 3/19/2015
85895 | UNY LLC DBA General Super Plating (Union) | East Syracuse, NY | 3/24/2015
85898 | Siemens Energy Inc. (Workers) | Mount Vernon, OH | 3/25/2015
85903 | Verizon Communications (Workers) | Richardson, TX | 3/26/2015
85908 | PEMCO Mutual Insurance Company (Workers) | Seattle, WA | 3/30/2015
85918 | Interactive Data Corporation (Union) | Bedford, MA | 4/1/2015
85921 | Avaya, Inc. (Union) | Highlands Ranch, CO | 4/2/2015
85923 | Oerlikon Fairfield (State/One-Stop) | Lafayette, IN | 4/6/2015
85925 | Bimbo Bakeries USA, Inc. (Workers) | Fullerton, CA | 4/6/2015
85936 | Total Safety US (State/One-Stop) | Decatur, AL | 4/10/2015
85941 | CareFusion Resources, LLC (State/One-Stop) | San Diego, CA | 4/15/2015
85945 | International Business Machines (IBM) (Workers) | Hopewell Junction, NY | 4/16/2015
85949 | Asset Acceptance, LLC (State/One-Stop) | Warren, MI | 4/20/2015
85965 | Cathedral Art Metal Company, Inc. (State/One-Stop) | Providence, RI | 4/28/2015
85966 | Sirius Computer Solutions, Inc. (State/One-Stop) | San Antonio, TX | 4/28/2015
85992 | Verizon (State/One-Stop) | Cary, NC | 5/7/2015
86003 | CompuCom (State/One-Stop) | Bentonville, AR | 5/11/2015
86003A | CompuCom (State/One-Stop) | Bentonville, AR | 5/11/2015
86015 | Bandai America Inc. (Workers) | Cypress, CA | 5/15/2015
86018 | Intel Corporation (Union) | Rio Rancho, NM | 5/18/2015
86033 | Dex Media (Union) | Bethlehem, PA | 5/26/2015

Appendix B—List of Pending Investigations Now Under TAARA 2015 Eligibility Criteria
TA-W | Subject firm (petitioners) | Location | Date of petition filing
85737 | Quantum Foods (Workers) | Bolingbrook, IL | 12/18/2014
85798 | Windsor Foods (Workers) | Bloomsburg, PA | 1/28/2015
85816 | Weir Slurry Group, Inc. (Union) | Hazleton, PA | 2/6/2015
85842 | Sypris Tech (Workers) | Morganton, NC | 2/19/2015
85852 | Saint Gobain (State/One-Stop) | Fort Smith, AR | 2/25/2015
85856 | Norwich Pharma—Alrogen Co. (State/One-Stop) | Norwich, NY | 2/27/2015
85864 | Derwich Industries, Inc (State/One-Stop) | Grayling, MI | 3/6/2015
85891 | Fender Musical Instruments Corporation (State/One-Stop) | Corona, CA | 3/20/2015
85892 | Dana Holding Company (State/One-Stop) | Robinson, IL | 3/23/2015
85897 | American Cotton Growers LLC (State/One-Stop) | Littlefield, TX | 3/24/2015
85915 | Pfizer Inc. (State/One-Stop) | Groto, CT | 3/31/2015
85929 | IBM (State/One-Stop) | Endicott, NY | 4/8/2015
85930 | Teva Pharmaceuticals (Workers) | Kulztown, PA | 4/8/2015
85932 | Mohican Mills, Inc./Fab Industries Corp (Company) | Lincolnton, NC | 4/9/2015
85937 | Advanced Supply Chain International, LLC (Company) | Prudhoe Bay, AK | 4/13/2015
85939 | TMK—IPSCO (Workers) | Catoosa, OK | 4/14/2015
85942 | Halliburton (State/One-Stop) | Pocasset, OK | 4/15/2015
85943 | Robert Shaw Controls (Workers) | Carol Stream, IL | 4/16/2015
85946 | DJO Global/Exos (State/One-Stop) | Arden Hills, MN | 4/17/2015
85948 | Syncreon (Workers) | Allentown, PA | 4/17/2015
85950 | TE Connectivity (Company) | Middletown, PA | 4/20/2015
85954 | Baker Hughes (incl. Claremore, OK; and Hampton, AR) (Workers) | Broken Arrow, OK | 4/23/2015
85956 | Cameron Measurements (Workers) | Duncan, OK | 4/24/2015
85957 | Tatung Company of America (State/One-Stop) | Carson, CA | 4/24/2015
85959 | Wirerope Works Inc. (Workers) | Williamsport, PA | 4/27/2015
85960 | Hamilton Scientific (State/One-Stop) | Round Rock, TX | 4/27/2015
85961 | Modine Manufacturing Company (Company) | Washington, IA | 4/27/2015
85964 | TMK IPSCO Koppel Tubulars (Workers) | Ambridge, PA | 4/27/2015
85968 | Wolff Fording & Company (Workers) | Richmond, VA | 4/28/2015
85975 | Regulator Technologies Tulsa, LLC (Workers) | Tulsa, OK | 5/1/2015
85976 | Bonney Forge (Workers) | Mount Union, PA | 5/1/2015
85977 | Sanquine Gas Exploration LLC (State/One-Stop) | Tulsa, OK | 5/4/2015
85978 | Simpson Lumber LLC (Union) | Shelton, WA | 5/4/2015
85981 | Stein Steel Mill Services, Inc. (Union) | Granite City, IL | 5/5/2015
85982 | Bosch Securities Inc. (Union) | Lancaster, PA | 5/5/2015
85983 | MegaDiamond (Workers) | Provo, UT | 5/5/2015
85985 | New Wave Surgical/Covidien (Company) | Pompano Bay, FL | 5/5/2015
85988 | Nextit (State/One-Stop) | Spokane, WA | 5/6/2015
85989 | Milliken & Company (Company) | Greenville, SC | 5/6/2015
85990 | Maxim Integrated (State/One-Stop) | Hillsboro, OR | 5/6/2015
85991 | Caterpillar, Inc. (State/One-Stop) | Decatur, IL | 5/7/2015
85993 | TMK-IPSCO Tubulars Kentucky Inc (Union) | Wilder, KY | 5/7/2015
85994 | Superior Industries International, Inc. (Company) | Van Nuys, CA | 5/7/2015
85995 | Seacon Brantner & Associates (Company) | El Cajon, CA | 5/7/2015
85996 | Willbanks Metals, Inc. fka First Process Steel (State/One-Stop) | Tulsa, OK | 5/7/2015
85998 | Baker Hughes Oilfield Operations, Inc. (State/One-Stop) | Hampton, AR | 5/8/2015
85999 | Carlson Craft (State/One-Stop) | North Mankato, MN | 5/8/2015
86000 | Cudd Energy Services (State/One-Stop) | Seminole, OK | 5/8/2015
86001 | Boeing Commercial Aircraft (Union) | Tukwila, WA | 5/11/2015
86002 | Cameron (State/One-Stop) | Little Rock, AR | 5/11/2015
86004 | Cooper Power Systems (State/One-Stop) | Fayetteville, AR | 5/11/2015
86005 | DCP Midstream (State/One-Stop) | Tulsa, OK | 5/11/2015
86007 | Goldwin America, Inc a Subsidiary of Goldwin Inc. (State/One-Stop) | Manhattan Beach, CA | 5/11/2015
86008 | John Deere Des Moines Works (State/One-Stop) | Ankeny, IA | 5/11/2015
86009 | DestaDrilling (Workers) | Odessa, TX | 5/12/2015
86010 | Convergys Corporation Pharr Texas (Workers) | Pharr, TX | 5/13/2015
86011 | Goodman Networks, Inc. (Company) | Plano including remote workers, TX | 5/13/2015
86013 | Samson Resources (Workers) | Tulsa, OK | 5/14/2015
86016 | Rexnord Gear Products Division (State/One-Stop) | Milwaukee, WI | 5/15/2015
86017 | TMK—IPSCO (Company) | Houston, TX | 5/15/2015
86020 | Harsco Air Exchangers (State/One-Stop) | Catoosa, OK | 5/20/2015
86021 | The Shredder Company, LLC. (Workers) | Canutillo, TX | 5/20/2015
86022 | Oil States Energy Services (Workers) | Cannonsburg, PA | 5/20/2015
86023 | Team Oil Tools (State/One-Stop) | Tulsa, OK | 5/20/2015
86024 | Chart Industries (State/One-Stop) | Owatonna, MN | 5/20/2015
86025 | Actavis, Inc.—(Watson Laboratories, Inc.) (State/One-Stop) | Corona, CA | 5/21/2015
86026 | Gardner-Denver (Workers) | Tulsa, OK | 5/21/2015
86027 | Pittsburgh Corning Corporation (Union) | Port Allegany, PA | 5/22/2015
86028 | Transicoil (Company) | Collegeville, PA | 5/22/2015
86029 | Cadmus Communications, a Cenveo Company (Workers) | Lancaster, PA | 5/22/2015
86030 | Goodman Networks, Inc. (Workers) | Plano, TX | 5/26/2015
86031 | Oil State Industries International (State/One-Stop) | Tulsa, OK | 5/26/2015
86032 | Tefelex Medical, Inc. (Company) | Asheboro, NC | 5/26/2015
86034 | Technicolor Creative Services (Workers) | Hollywood, CA | 5/26/2015
86035 | Sykes Home Powered by Alpine Access (Workers) | Denver, CO | 5/26/2015
86036 | Flowers Foods, Inc. (State/One-Stop) | Waterloo, IA | 5/26/2015
86037 | Craftwood, Inc. (Workers) | High Point, NC | 5/27/2015
86038 | Pearson (Workers) | Old Tappan, NJ | 5/28/2015
86039 | Arcelormittal—Georgetown (Union) | Georgetown, SC | 5/28/2015
86040 | ATOS IT Solutions and Services, Inc. (Company) | Mason, OH | 5/29/2015
86041 | LA Darling Company (Workers) | Piggott, AR | 5/29/2015
86042 | S&R Equipment Co (State/One-Stop) | Austin, TX | 5/29/2015
86043 | UBM, LLC (State/One-Stop) | Manhasset, NY | 5/29/2015
86044 | Interfor (Union) | Tacoma, WA | 5/29/2015
86045 | Riley Gear Corporation (Union) | North Tonawanda, NY | 5/29/2015
86046 | Aercap (State/One-Stop) | Los Angeles, CA | 6/1/2015
86047 | Republic Steel (Union) | Gary, IN | 6/1/2015
86048 | Spirit Aerosystem (Workers) | Tulsa, OK | 6/1/2015
86049 | Green Diamond Company/California Redwood Company (State/One-Stop) | Eureka, CA | 6/1/2015
86050 | Bank Of America (Workers) | Simi Valley, CA | 6/1/2015
86051 | Archer Pressure Pumping, LLC (Workers) | Union City, OK | 6/1/2015
86052 | Southwestern Wire Cloth (Workers) | Broken Arrow, OK | 6/1/2015
86053 | Medco/Express Scripts (State/One-Stop) | Jersey City, NJ | 6/2/2015
86055 | Aztec Well Servicing Companies (Company) | Aztec, NM | 6/2/2015
86056 | Kapstone Paper and Packaging Inc. (Union) | Longview, WA | 6/2/2015
86057 | Fairmount Santrol (Brewer Facility) (State/One-Stop) | Perryville, MO | 6/3/2015
86058 | Merkle Inc. (State/One-Stop) | Montvale, NJ | 6/3/2015
86059 | OGCI—Petro Skills (State/One-Stop) | Tulsa, OK | 6/3/2015
86060 | Worthington Industries (State/One-Stop) | Florence, SC | 6/4/2015
86061 | ArcelorMittal Ferndale, Inc. (Company) | Ferndale, MI | 6/4/2015
86062 | Chromalloy Southwest (Company) | Calexico, CA | 6/4/2015
86063 | Heritage Home (Workers) | Saltillo, MS | 6/4/2015
86064 | Texas Instruments Incorporated (Company) | Stafford, TX | 6/4/2015
86065 | Cliffs Natural Resources (State/One-Stop) | Ishpeming, MI | 6/5/2015
86066 | Contec LLC (Workers) | Brownsville, TX | 6/5/2015
86067 | Guardian Life Insurance Company (Company) | Appleton, WA | 6/5/2015
86068 | Rockwell Collins Inc. (Workers) | Calexico, CA | 6/5/2015
86069 | Schlumberger (State/One-Stop) | Kellyville, OK | 6/5/2015
86070 | Interplex Tech Group (Workers) | North Haven, CT | 6/8/2015
86071 | INVISTA (Company) | Athens, GA | 6/8/2015
86072 | Conoco-Phillips, IT Dept. (State/One-Stop) | Bartlesville, OK | 6/8/2015
86073 | Norwich Aero Products (Esterline) (State/One-Stop) | Norwich, NY | 6/8/2015
86074 | W.W. Grainger (State/One-Stop) | Lincolnshire, IL | 6/8/2015
86075 | Epic Technologies, LLC (Company) | Johnson City, TN | 6/8/2015
86076 | Omnicare Inc. (Workers) | Dublin, OH | 6/9/2015
86077 | HARMAN (Company) | Northridge, CA | 6/9/2015
86078 | Best Well Services, LLC. (State/One-Stop) | Guthrie, OK | 6/9/2015
86079 | Airboss Defense Inc. (Company) | Milton, VT | 6/9/2015
86080 | Sercel GRC (State/One-Stop) | Tulsa, OK | 6/10/2015
86081 | Milco Industries, Inc. (Company) | Bloomsburg, PA | 6/10/2015
86082 | AA Gear and Manufacturing (State/One-Stop) | Howell, MI | 6/10/2015
86083 | Magnetation (State/One-Stop) | Grand Rapids, MN | 6/10/2015
86084 | DexMedia (Workers) | Los Alamitos, CA | 6/10/2015
86085 | Research in Motion (Blackberry) (State/One-Stop) | Milford, CT | 6/11/2015
86086 | Mesabi Nugget/Steel Dynamics (State/One-Stop) | Chisholm/Hoyt Lakes, MN | 6/11/2015
86087 | Horton Automatics, Sheet Metal Technicians, hourly plant employees (Company) | Corpus Christi, TX | 6/11/2015
86088 | Breg, Inc. (State/One-Stop) | Grand Prairie, TX | 6/11/2015
86089 | Huntington Alloys Corporation (Union) | Huntington, WV | 6/11/2015
86090 | CoorsTek (State/One-Stop) | Tulsa, OK | 6/12/2015
86091 | Frontier Airlines (State/One-Stop) | Denver, CO | 6/15/2015
86092 | National Electronic Warranty/Asurion (State/One-Stop) | Sterling, VA | 6/15/2015
86093 | EarthLink (State/One-Stop) | Rochester, NY | 6/16/2015
86094 | Optical Disc Solutions (Workers) | Richmond, IN | 6/16/2015
86095 | Essentra (Union) | Evansville, IN | 6/16/2015
86096 | Dow Electronic Materials—Metal Organics incl. Kelly Srvcs & US Security (Workers) | North Andover, MA | 6/16/2015
86097 | Heritage Glass LLC (Workers) | Kingsport, TN | 6/17/2015
86098 | Mattel, Inc. (State/One-Stop) | El Segundo, CA | 6/17/2015
86099 | Mohawk Industries (Company) | Landrum, SC | 6/17/2015
86100 | Novartis/GSK Consumer Health Care (Workers) | Lincoln, NE | 6/17/2015
86101 | Paragon Store Fixtures (Company) | Big Lake, MN | 6/17/2015
86102 | Vonage America (Workers) | Holmdel, NJ | 6/17/2015
86103 | Wilbros (State/One-Stop) | Tulsa, OK | 6/17/2015
86104 | Northwest Pipe Company (State/One-Stop) | Atchison, KS | 6/18/2015
86105 | Safran Labinal Power Systems (Company) | Salisbury, MD | 6/18/2015
86106 | Tucker Energy Services/McAlester OK (State/One-Stop) | Tulsa, OK | 6/18/2015
86107 | Dex Media (State/One-Stop) | DFW Airport, TX | 6/19/2015
86108 | SOL INC (Workers) | Palm City, FL | 6/19/2015
86109 | Mammoth Webco (State/One-Stop) | Springfield, MO | 6/19/2015
86110 | Allen Logging Co, Inc. (State/One-Stop) | Forks, WA | 6/19/2015
86111 | Seattle-Snohomish Sawmill Co. Inc. (State/One-Stop) | Snohomish, WA | 6/19/2015
86112 | Avantor Performance Materials (Workers) | Paris, KY | 6/22/2015
86113 | Soo Tractor LLC (formerly Radius Steel) (State/One-Stop) | Sioux City, IA | 6/22/2015
86114 | Regal Beloit America, Inc. (Company) | West Plains, MO | 6/22/2015
86115 | GGS Information Services (Company) | Erie, PA | 6/22/2015
86116 | Quad Graphics (State/One-Stop) | Portland, OR | 6/23/2015
86117 | Conoco Phillips (State/One-Stop) | Farmington, NM | 6/23/2015
86118 | Producers Assistants Corp (State/One-Stop) | Farmington, NM | 6/23/2015
86119 | Frac Master LLC (Workers) | Farmington, NM | 6/23/2015
86120 | Avery Dennison (Company) | Greensboro, NC | 6/23/2015
86121 | Sandvik Coromant (Workers) | Pontiac, MI | 6/23/2015
86122 | Hospira (Company) | Clayton, NC | 6/23/2015
86123 | Bombardier Transportation (Workers) | Pittsburgh, PA | 6/23/2015
86124 | E. H. Wachs/ITW (State/One-Stop) | Lincolnshire, IL | 6/24/2015
86125 | Verizon Business (State/One-Stop) | Tulsa, OK | 6/24/2015
86126 | Solid State Advanced Controls (Company) | Baldwinsville, NY | 6/25/2015
86127 | Johnson Metall, Inc. (Workers) | Lorain, OH | 6/25/2015
86128 | QBE First (Workers) | Moon Township, PA | 6/25/2015
86129 | Frog, Switch, and MFG CO (Workers) | Carlisle, PA | 6/25/2015
86130 | Vera Bradley Designs (Company) | New Haven, IN | 6/25/2015
86131 | WPX Energy Services Company , LLC (State/One-Stop) | Tulsa, OH | 6/25/2015
86132 | Getinge Sourcing, LLC (Company) | Rochester, NY | 6/26/2015
86133 | Capital Group Companies Global, Inc. (Workers) | San Antonio, TX | 6/26/2015
86134 | ESCI/Thorpe Inc. (State/One-Stop) | Broken Arrow, OK | 6/26/2015
86135 | Harrington Machine & Tool Co Inc (Company) | Franklin, PA | 6/29/2015
86136 | Verizon (Workers) | Lake Mary, FL | 6/29/2015
86137 | Dex Media (Union) | Williamsville, NY | 6/29/2015
86138 | Verizon (Workers) | Richard, TX | 6/29/2015
86139 | JMC Steel Group (Union) | Whertland, PA | 6/29/2015

DATES: This Notice is effective immediately/June 29, 2015.

For Further Information or Questions on Statutory Reconsiderations for Trade Adjustment Assistance: Please contact the 1-877-US2-JOBS (TTY) 1-877-889-5627 (both lines are Toll free) or via the Internet at www.doleta.gov/tradeact.

Portia Wu,
Assistant Secretary for Employment and Training.

[FR Doc. 2015-20234 Filed 8-14-15; 8:45 am]

BILLING CODE 4510-FN-P